DEPARTMENT OF THE INTERIOR

National Park Service

Notice of Inventory Completion: U.S. Department of the Interior, National Park Service, Fort Union National Monument, Watrous, NM

AGENCY: National Park Service, Interior.

ACTION: Notice.

Notice is here given in accordance with the Native American Graves Protection and Repatriation Act (NAGPRA), 25 U.S.C. 3003, of the completion of an inventory of human remains and associated funerary objects in the possession and control of the U.S. Department of the Interior, National Park Service, Fort Union National Monument, Watrous, NM. The human remains and cultural items were removed from an area near the fort in Mora County, NM.

This notice is published as part of the National Park Service's administrative responsibilities under NAGPRA, 25 U.S.C. 3003 (d)(3). The determinations in this notice are the sole responsibility of the superintendent, Fort Union National Monument.

A detailed assessment of the human remains and associated funerary objects was made by Fort Union National Monument professional staff in consultation with representatives of the Arapaho Tribe of the Wind River Reservation, Wyoming; Comanche Nation, Oklahoma; Fort McDowell Yavapai Nation, Arizona; Jicarilla Apache Nation, New Mexico; Mescalero Apache Tribe of the Mescalero Reservation, New Mexico; Navajo Nation, Arizona, New Mexico & Utah; and Ute Mountain Tribe of the Ute Mountain Reservation, Colorado, New Mexico & Utah.

The Apache Tribe of Oklahoma; Cheyenne-Arapaho Tribes of Oklahoma; Fort Sill Apache Tribe of Oklahoma; Kiowa Indian Tribe of Oklahoma; Northern Cheyenne Tribe of the Northern Cheyenne Indian Reservation, Montana; San Carlos Apache Tribe of the San Carlos Reservation, Arizona; Southern Ute Indian Tribe of the Southern Ute Reservation, Colorado; Tonto Apache Tribe of Arizona; Ute Indian Tribe of the Uintah & Ouray Reservation, Utah; White Mountain Apache Tribe of the Fort Apache Reservation, Arizona; and Yavapai-Apache Nation of the Camp Verde Indian Reservation, Arizona were contacted for consultation purposes but did not attend the consultation meetings.

In 1958, human remains representing a minimum of four individuals were removed from Fort Union National Monument in Mora County, NM, during the construction of park housing. No known individuals were identified. All but 10 of the approximately 40 artifacts found with the human remains have been lost or have disintegrated. The 10 surviving associated funerary objects are 1 turquoise bead, 1 shell bead, 1 fragmentary shell bead, 1 leather fragment, 2 pieces of fabric, 1 fragment of bark, 2 fragments of rotted leather, and 1 fragment of material that is either rotted leather or metal. Most of the objects are only identifiable by consulting the park's museum catalog cards.

Based on skeletal and artifactual analysis, it appears that the four men were beaten, shot, dragged using leather straps found with the bodies, and buried in a grave approximately 18 inches deep. The mass grave was located immediately adjacent to where the Santa Fe Trail entered Fort Union. The men were laid out in an orderly fashion, oriented to the southeast. Most items of value appear to have been removed from the bodies. Buttons and the caliber of bullets used to kill the men indicate that the murders took place sometime between the years of 1863 and 1872. At the request of officials of Fort Union National Monument, a cultural affiliation report was prepared in 2006 in an effort to determine cultural affiliation by examining all available evidence.

Officials of Fort Union National Monument have determined that, pursuant to 25 U.S.C. 3001 (9-10), the human remains described above represent the physical remains of four individuals of Native American ancestry. Officials of Fort Union National Monument also have determined that, pursuant to 25 U.S.C. 3001 (3)(A), the ten objects described above are reasonably believed to have been placed with or near individual human remains at the time of death or later as part of the death rite or ceremony. Lastly, officials of Fort Union National Monument have determined that, pursuant to 25 U.S.C. 3001 (2), a relationship of shared group identity cannot reasonably be traced between the Native American human remains and associated funerary objects and any present-day Indian tribe.

The Native American Graves Protection and Repatriation Review Committee (Review Committee) is responsible for recommending specific actions for disposition of culturally unidentifiable human remains. In October 2006, Fort Union National Monument requested that the Review Committee recommend repatriation of the four culturally unidentifiable human remains and ten associated funerary objects to the Jicarilla Apache Nation, New Mexico and Ute Mountain Tribe of the Ute Mountain Reservation, Colorado, New Mexico & Utah as co-claimants because the human remains and cultural items were found within the tribes' aboriginal and historical territory. The Review Committee considered the proposal at its November 2006 meeting, and recommended disposition of the human remains and associated funerary objects to the Jicarilla Apache Nation, New Mexico and Ute Mountain Tribe of the Ute Mountain Reservation, Colorado, New Mexico & Utah. The National Park Service intends to convey the ten associated funerary objects to the tribes pursuant to 16 U.S.C. 18f-2.

A December 12, 2006, letter from the Designated Federal Official, writing on behalf of the Secretary of the Interior, recommended disposition of the physical remains of four culturally unidentifiable individuals and ten associated funerary objects to the Jicarilla Apache Nation, New Mexico and Ute Mountain Tribe of the Ute Mountain Reservation, Colorado, New Mexico & Utah contingent on the publication of a Notice of Inventory Completion in the Federal Register. This notice fulfills that requirement.

Representatives of any other Indian tribe that believes itself to be culturally affiliated with the human remains and associated funerary objects should contact Marie Frias Sauter, superintendent, Fort Union National Monument, P.O. Box 127, Watrous, NM 87753, telephone (505) 425-8025, before April 16, 2007. Disposition of the human remains and associated funerary objects to the Jicarilla Apache Nation, New Mexico and Ute Mountain Tribe of the Ute Mountain Reservation, Colorado, New Mexico & Utah may proceed after that date if no additional claimants come forward.

Fort Union National Monument is responsible for notifying the Arapaho Tribe of the Wind River Reservation, Wyoming; Comanche Nation, Oklahoma; Fort McDowell Yavapai Nation, Arizona; Jicarilla Apache Nation, New Mexico; Mescalero Apache Tribe of the Mescalero Reservation, New Mexico; Navajo Nation, Arizona, New Mexico & Utah; and Ute Mountain Tribe of the Ute Mountain Reservation, Colorado, New Mexico & Utah that this notice has been published.

Dated: February 8, 2007.
Sherry Hutt,
Manager, National NAGPRA Program.

[FR Doc. E7-4728 Filed 3-14-07; 8:45 am]

BILLING CODE 4312-50-S